INTERNATIONAL TRADE COMMISSION

[Investigation No. 337-TA-501]

In the Matter of: Certain Encapsulated Integrated Circuit Devices and Products Containing Same; Notice of Commission Determination Not To Review an Initial Determination Granting a Motion for Summary Determination That the Importation Requirements of 19 U.S.C. 1337(A)(1)(B) Have Been Met

AGENCY: U.S. International Trade Commission.

ACTION: Notice.

SUMMARY: Notice is hereby given that the U.S. International Trade Commission has determined not to review an initial determination (“ID”) of the presiding administrative law judge (“ALJ”) in the above-captioned investigation granting a motion for summary determination that the importation requirements of 19 U.S.C. 1337(A)(1)(B) have been met.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation, which concerns allegations of unfair acts in violation of section 337 of the Tariff Act of 1930 in the importation and sale of certain encapsulated integrated circuit devices and products containing same thereof on December, 19, 2003, based on a complaint filed by Amkor Technology, Inc, (“Amkor”) of West Chester, Pennsylvania. The respondents named in the notice of investigation are Carsem (M) Sdn Bhp, and Carsem Semiconductor Sdh Bhd of Malaysia; Carsem, Inc., of City of Industry, CA (collectively “Carsem”). Amkor's complaint alleged that Carsem's products infringe claims of three different patents held by Amkor.

On June 1, 2004, complainant Amkor moved for a summary determination that the importation requirement of 19 U.S.C. 1337(A)(1)(B) has been satisfied in this investigation. Carsem filed a response in opposition and the Commission investigative attorney filed a response in support of Amkor's motion.

On June 1, 2004, the ALJ issued the subject ID (Order No. 61) granting complainant Amkor's motion for summary determination that the importation requirements of 19 U.S.C. 1337(A)(1)(B) have been met.

No petitions for review of the ID were filed.

This action is taken under the authority of section 337 of the Tariff Act of 1930, 19 U.S.C. 1337, and section 210.42 of Commission's Rules of Practice and Procedure, 19 CFR 210.42.

By order of the Commission.
Issued: July 6, 2004.
Marilyn R. Abbott,
Secretary to the Commission.

[FR Doc. 04-15756 Filed 7-9-04; 8:45 am]

BILLING CODE 7020-02-P